DEPARTMENT OF HOMELAND SECURITY

Federal Emergency Management Agency

44 CFR Part 67

[Docket ID FEMA-2011-0002; Internal Agency Docket No. FEMA-B-1188]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 12, 2011.

ADDRESSES: The corresponding preliminary Flood Insurance Rate Map (FIRM) for the proposed BFEs for each community is available for inspection at the community's map repository. The respective addresses are listed in the table below.

You may submit comments, identified by Docket No. FEMA-B-1188, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sevier County, Utah, and Incorporated Areas
Albinus Canyon | Approximately 400 feet downstream of Old U.S. Highway 89 | None | +5343 | Unincorporated Areas of Sevier County.
| Approximately 500 feet upstream of I-70 | None | +5445
East Koosharem Creek | Approximately 1,800 feet downstream of West 200 South Street | None | +6870 | Town of Koosharem, Unincorporated Areas of Sevier County.
| Approximately 500 feet upstream of North 300 West Street | None | +6975
Indian Creek | Approximately 500 feet downstream of East 300 North Street | None | +5416 | Town of Joseph.
| At the downstream side of I-70 | None | +5504
Indian Creek Split Flow | Approximately 400 feet downstream of State Highway 118 | None | +5435 | Town of Joseph.
| At the Indian Creek divergence | None | +5485
Koosharem Creek | Approximately 1,700 feet downstream of West 200 South Street | None | +6878 | Town of Koosharem, Unincorporated Areas of Sevier County.
| Approximately 0.4 mile upstream of West 200 North Street | None | +7037
North Koosharem Creek | Approximately 700 feet downstream of North 200 East Street | None | +6893 | Town of Koosharem, Unincorporated Areas of Sevier County.
| Approximately 1,800 feet upstream of North 300 West Street | None | +7033
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Joseph
Maps are available for inspection at 25 East 100 North Street, Joseph, UT 84739.
Town of Koosharem
Maps are available for inspection at 45 North Main Street, Koosharem, UT 84744.
Unincorporated Areas of Sevier County
Maps are available for inspection at 250 North Main Street, Richfield, UT 84701.
Yakima County, Washington, and Incorporated Areas
Cottonwood Creek | Approximately 970 feet downstream of Dazet Road | None | +1244 | Unincorporated Areas of Yakima County.
| Approximately 2.08 miles upstream of Hubbard Road | None | +1831
Cottonwood Creek Left Bank Overflow Downstream | At the Cottonwood Creek confluence | None | +1293 | Unincorporated Areas of Yakima County.
| At the Cottonwood Creek divergence | None | +1323
Cottonwood Creek Left Bank Overflow Upstream | Approximately 0.26 mile downstream of Canyon Road | None | +1406 | Unincorporated Areas of Yakima County.
| Approximately 0.64 mile upstream of Canyon Road | None | +1475
Cottonwood Creek Tributary 1 | At the Cottonwood Creek confluence | None | +1613 | Unincorporated Areas of Yakima County.
| Approximately 0.53 mile upstream of Cottonwood Canyon Road | None | +1668
Secondary Tributary to Wide Hollow Tributary 2 | At the Tributary to Wide Hollow Creek Tributary 2 confluence | None | +1519 | Unincorporated Areas of Yakima County.
| Approximately 0.36 mile upstream of the Tributary to Wide Hollow Creek Tributary 2 confluence | None | +1569
Shaw Creek | At the Wide Hollow Creek confluence | None | +1179 | City of Yakima, Unincorporated Areas of Yakima County.
| Approximately 160 feet upstream of Summitview Road | None | +1438
Shaw Creek—Wide Hollow Creek Overflow | At the Wide Hollow Creek confluence | None | +1152 | City of Yakima.
| Approximately 0.27 mile upstream of Westbrook Loop | None | +1182
Shaw Creek—Wide Hollow Creek Walmart Overflow 1 | At the Wide Hollow Creek confluence | None | +1151 | City of Yakima.
| Approximately 1,307 feet upstream of South 64th Avenue | None | +1158
Shaw Creek—Wide Hollow Creek Walmart Overflow 2 | At the Wide Hollow Creek confluence | None | +1149 | City of Yakima.
| Approximately 1,236 feet upstream of South 64th Avenue | None | +1160
Shaw Creek Ditch 1 | At the Shaw Creek confluence | None | +1431 | Unincorporated Areas of Yakima County.
| Approximately 170 feet downstream of North 112th Avenue | None | +1435
Shaw Creek Left Bank Overflow | At the Shaw Creek confluence | None | +1252 | Unincorporated Areas of Yakima County.
| At the Shaw Creek divergence | None | +1270
Shaw Creek North Pear Overflow | At the Shaw Creek confluence | None | +1235 | City of Yakima, Unincorporated Areas of Yakima County.
| Approximately 560 feet upstream of Orchard Avenue | None | +1284
Shaw Creek Overflow | At the Shaw Creek confluence | None | +1187 | City of Yakima, Unincorporated Areas of Yakima County.
| Approximately 0.3 mile upstream of South 91st Avenue | None | +1222
Shaw Creek Overflow South | At the Shaw Creek confluence | None | +1182 | City of Yakima, Unincorporated Areas of Yakima County.
| Approximately 0.32 mile upstream of South 88th Avenue | None | +1215
Shaw Creek Tributary | At the Shaw Creek confluence | None | +1230 | Unincorporated Areas of Yakima County.
| Approximately 160 feet downstream of South Mize Road | None | +1407
Tributary to Wide Hollow Creek Tributary 2 | At the Wide Hollow Creek Tributary 2 confluence | None | +1470 | Unincorporated Areas of Yakima County.
| Approximately 0.42 mile upstream of Lynch Road | None | +1566
Wide Hollow Creek | At the Yakima River confluence | +959 | +958 | City of Union Gap, City of Yakima, Unincorporated Areas of Yakima County.
| Approximately 1.08 miles upstream of Stone Road | None | +1733
Wide Hollow Creek Mill Weir Overflow | At the Wide Hollow Creek confluence | None | +958 | City of Union Gap.
| At the Wide Hollow Creek divergence | None | +964
Wide Hollow Creek Right Bank Overflow 1 | At the Wide Hollow Creek confluence | None | +1413 | Unincorporated Areas of Yakima County.
| Approximately 0.32 mile upstream of Wide Hollow Road | None | +1450
Wide Hollow Creek Tributary 1 | At the Wide Hollow Creek confluence | None | +1482 | Unincorporated Areas of Yakima County.
| Approximately 1.08 miles upstream of Cook Road | None | +1712
Wide Hollow Creek Tributary 1 Midflow Split | At the Wide Hollow Creek Tributary 1 confluence | None | +1647 | Unincorporated Areas of Yakima County.
| At the Wide Hollow Creek Tributary 1 divergence | None | +1660
Wide Hollow Creek Tributary 1 Left Bank Overflow | Approximately 300 feet downstream of Stone Road | None | +1470 | Unincorporated Areas of Yakima County.
| Approximately 0.7 mile upstream of Hollow Creek Lane | None | +1545
Wide Hollow Creek Tributary 2 | At the Wide Hollow Creek confluence | None | +1450 | Unincorporated Areas of Yakima County.
| Approximately 0.45 mile upstream of Tieton Drive | None | +1594
Wide Hollow Structure 116 Bypass | At the Wide Hollow Creek confluence | None | +1370 | Unincorporated Areas of Yakima County.
| At the Wide Hollow Creek divergence | None | +1378
Wide Hollow Structure 125 Bypass | At the Wide Hollow Creek confluence | None | +1430 | Unincorporated Areas of Yakima County.
| At the upstream side of Wide Hollow Road | None | +1438
Wide Hollow Structure 21 Bypass | At the Ahtanum Creek confluence | None | +953 | City of Union Gap, Unincorporated Areas of Yakima County.
| At the Wide Hollow Creek divergence | None | +975
Wide Hollow Structure 36 Bypass | At the Wide Hollow Creek confluence | None | +1012 | City of Union Gap.
| At the Wide Hollow Creek divergence | None | +1016
Wide Hollow Structure 47 Bypass | At the Wide Hollow Creek confluence | None | +1045 | City of Union Gap.
| At the Wide Hollow Creek divergence | None | +1050
Wide Hollow Structure 86 Bypass | At the Wide Hollow Creek confluence | None | +1203 | Unincorporated Areas of Yakima County.
| At the Wide Hollow Creek divergence | None | +1217
Wide Hollow Structure 99 Bypass | At the Wide Hollow Creek confluence | None | +1264 | Unincorporated Areas of Yakima County.
| At the Wide Hollow Creek divergence | None | +1280
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Union Gap
Maps are available for inspection at 102 West Ahtanum Road, Union Gap, WA 98903.
City of Yakima
Maps are available for inspection at 129 North 2nd Street, Yakima, WA 98901.
Unincorporated Areas of Yakima County
Maps are available for inspection at 128 North 2nd Street, Yakima, WA 98901.
Wirt County, West Virginia, and Incorporated Areas
Daley Run | Approximately 1,400 feet downstream of County Route 14/1 | None | +610 | Unincorporated Areas of Wirt County.
| Approximately 500 feet downstream of County Route 14/1 | None | +610
Little Kanawha River | Approximately 1.8 miles downstream of the Hughes River confluence | None | +610 | Unincorporated Areas of Wirt County.
| Approximately 4.2 miles downstream of the Hughes River confluence | None | +610
| Approximately 1.4 miles downstream of State Route 5 | None | +623
| Approximately 650 feet downstream of State Route 5 | None | +625
Tucker Creek | At the Little Kanawha River confluence | None | +623 | Unincorporated Areas of Wirt County.
| Approximately 1.1 miles upstream of the Little Kanawha River confluence | None | +623
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Wirt County
Maps are available for inspection at the Wirt County Courthouse, Corner Court of Washington Street, Elizabeth, WV 26143.

(Catalog of Federal Domestic Assistance No. 97.022, “Flood Insurance.”)

Dated: March 30, 2011.
Sandra K. Knight,
Deputy Federal Insurance and Mitigation Administrator, Mitigation, Department of Homeland Security, Federal Emergency Management Agency.

[FR Doc. 2011-8852 Filed 4-12-11; 8:45 am]

BILLING CODE 9110-12-P